DEPARTMENT OF TRANSPORTATION

Maritime Administration

[USCG-2007-28532]

Port Dolphin Energy LLC, Port Dolphin Energy Liquefied Natural Gas Deepwater Port License Application; Final Application Public Hearing and Final Environmental Impact Statement

AGENCY: Maritime Administration, DOT.

ACTION: Notice of availability; notice of final public hearing; request for comments; Correction.

SUMMARY: On July 13, 2009, the Maritime Administration and the U.S. Coast Guard (USCG) published in the Federal Register a notice of availability of the Final Environmental Impact Statement (FEIS) for the Port Dolphin Energy LLC, Port Dolphin Energy Liquefied Natural Gas Deepwater Port license application. The notice incorrectly listed the project's docket number as USCG-2006-28532. The correct docket number is USCG-2007-28532. This number should be included on all comments submitted regarding the Port Dolphin Deepwater Port license application. Additionally, the closing date for the comment period was incorrectly listed. The correct date on which comments must be received is August 27, 2009.

DATES: The date of the final public hearing is unchanged. It will be held in Palmetto, Florida on July 28, 2009. The final public hearing will be held from 5 p.m. to 7 p.m. and will be preceded by an informational open house from 3 p.m. to 4:30 p.m. The final public hearing may end later than the stated time, depending on the number of persons wishing to speak.

Material submitted in response to the request for comments on the FEIS and application must reach the Docket Management Facility by August 27, 2009.

Federal and State agencies must also submit comments, recommended conditions for licensing, or letters of no objection by September 11, 2009. Also by September 11, 2009, the Governor of Florida (the adjacent coastal state) may approve, disapprove, or notify the Maritime Administration of inconsistencies with State programs relating to environmental protection, land and water use, and coastal zone management for which the Maritime Administration may condition the license to make consistent.

The Maritime Administration must issue a record of decision (ROD) to approve, approve with conditions, or deny the DWP license application by October 26, 2009.

ADDRESSES: The public hearing in Palmetto will be held at the Manatee Convention Center, 1 Haben Blvd., Palmetto, Florida 34221; telephone: (941) 722-3244.

The FEIS, the application, comments and associated documentation are available for viewing at the Federal Docket Management System Web site: http://www.regulations.gov under docket number USCG-2007-28532.

Docket submissions for USCG-2007-28532 should be addressed to: Department of Transportation, Docket Management Facility, West Building, Ground Floor, Room W12-140, 1200 New Jersey Avenue, SE., Washington, DC 20590-0001.

The Federal Docket Management Facility accepts hand-delivered submissions, and makes docket contents available for public inspection and copying at this address between 9 a.m. and 5 p.m., Monday through Friday, except Federal holidays. The Facility telephone number is 202-366-9329, the fax number is 202-493-2251, and the Web site for electronic submissions or for electronic access to docket contents is http://www.regulations.gov.

FOR FURTHER INFORMATION CONTACT: Ray Martin, U.S. Coast Guard, telephone: 202-372-1449, e-mail: raymond.w.martin@uscg.mil or Chris Hanan, U.S. Maritime Administration, telephone: 202-366-1900, e-mail: Christopher.Hanan@dot.gov. If you have questions on viewing the docket, call Renee V. Wright, Program Manager, Docket Operations, telephone 202-493-0402.

(Authority 49 CFR 1.66)

Dated: July 14, 2009.
By Order of the Maritime Administrator.
Murray Bloom,
Acting Secretary, Maritime Administration.

[FR Doc. E9-17240 Filed 7-20-09; 8:45 am]

BILLING CODE 4910-81-P